DEPARTMENT OF ENERGY

Federal Energy Regulatory Commission

Combined Notice of Filings #1

Take notice that the Commission received the following electric corporate filings:

Docket Numbers: EC17-167-000.

Applicants: Shoreham Solar Commons LLC, Duke Energy Renewables Solar, LLC.

Description: Application for Authorization Under Section 203 of the Federal Power Act and Request for Waivers and Expedited Action of Shoreham Solar Commons LLC, et al.

Filed Date: 8/30/17.

Accession Number: 20170830-5159.

Comments Due: 5 p.m. ET 9/20/17.

Docket Numbers: EC17-168-000.

Applicants: Florida Power & Light Company.

Description: Application for Approval of Acquisition of Transmission Assets Pursuant to Section 203 of the Federal Power Act and Request for Expedited Action of Florida Power & Light Company.

Filed Date: 8/30/17.

Accession Number: 20170830-5161.

Comments Due: 5 p.m. ET 9/20/17.

Docket Numbers: EC17-169-000.

Applicants: Duke Energy Indiana, LLC.

Description: Application for Authorization Under Section 203 for Duke Energy Indiana, LLC.

Filed Date: 8/30/17.

Accession Number: 20170830-5163.

Comments Due: 5 p.m. ET 9/20/17.

Take notice that the Commission received the following electric rate filings:

Docket Numbers: ER10-2950-011.

Applicants: Spruance Genco, LLC.

Description: Notice of Non-Material Change in Status by Spruance Genco, LLC.

Filed Date: 8/29/17.

Accession Number: 20170829-5135.

Comments Due: 5 p.m. ET 9/19/17.

Docket Numbers: ER17-1756-000.

Applicants: Midcontinent Independent System Operator, Inc., Ameren Illinois Company.

Description: Ameren Services Company, on behalf of Ameren Illinois Company submits tariff filing per 35.19a(b): Refund Report to be effective N/A.

Filed Date: 8/30/17.

Accession Number: 20170830-5174.

Comments Due: 5 p.m. ET 9/20/17.

Docket Numbers: ER17-2385-000.

Applicants: Great Valley Solar 3, LLC.

Description: Baseline eTariff Filing: Great Valley Solar 3, LLC Petition for Order Accepting Market-Based Rate Tariff to be effective 10/1/2017.

Filed Date: 8/30/17.

Accession Number: 20170830-5143.

Comments Due: 5 p.m. ET 9/20/17.

Docket Numbers: ER17-2386-000.

Applicants: Great Bay Solar I, LLC.

Description: Initial rate filing: Reactive Service to be effective 11/1/2017.

Filed Date: 8/30/17.

Accession Number: 20170830-5148.

Comments Due: 5 p.m. ET 9/20/17.

Docket Numbers: ER17-2387-000.

Applicants: California Independent System Operator Corporation.

Description: Sec. 205(d) Rate Filing: 2017-08-31 Transferred Frequency Response Agreement Bonneville Power Admin. to be effective 11/1/2017.

Filed Date: 8/31/17.

Accession Number: 20170831-5000.

Comments Due: 5 p.m. ET 9/21/17.

Docket Numbers: ER17-2388-000.

Applicants: Southwest Power Pool, Inc., Southwestern Public Service Company.

Description: Joint Request for Limited Tariff Waiver of Southwestern Public Service Company, et al.

Filed Date: 8/30/17.

Accession Number: 20170830-5157.

Comments Due: 5 p.m. ET 9/20/17.

Docket Numbers: ER17-2389-000.

Applicants: Midcontinent Independent System Operator, Inc.

Description: Notice of Cancellation of Service Agreement No. 636 of Midcontinent Independent System Operator, Inc.

Filed Date: 8/30/17.

Accession Number: 20170830-5158.

Comments Due: 5 p.m. ET 9/20/17.

Docket Numbers: ER17-2390-000.

Applicants: PJM Interconnection, L.L.C.

Description: Tariff Cancellation: Notice of Cancellation of WMPA No. 4749; Queue No. AC1-037 to be effective 10/30/2017.

Filed Date: 8/31/17.

Accession Number: 20170831-5034.

Comments Due: 5 p.m. ET 9/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2017.
Nathaniel J. Davis, Sr.,
Deputy Secretary.

[FR Doc. 2017-18940 Filed 9-6-17; 8:45 am]

BILLING CODE 6717-01-P